DEPARTMENT OF THE INTERIOR

Bureau of Indian Affairs

Proposed Agency Information Collection Activities; Submission to OMB

AGENCY: Bureau of Indian Affairs, Interior.

ACTION: Notice of submission of requests.

SUMMARY: In compliance with the Paperwork Reduction Act, this notice announces the Bureau of Indian Affairs is submitting three information collections to the Office of Management and Budget for renewal. The collections are the Student Transportation Form, 1076-0134; Data Elements for Student Enrollment in Bureau-funded schools, 1076-0122; and Application for Admission to Haskell Indian Nations University (HINU) and Southwestern Indian Polytechnic Institute (SIPI), 1076-0114. We are requesting a renewal of clearance and requesting comments on this information collection. These collections help fulfill the trust responsibility of the Secretary of the Department of the Interior and support the educational efforts for Native American students from elementary through post-secondary.

DATES: Written comments must be submitted on or before January 23, 2009.

ADDRESSES: You may submit comments on the information collection to the Desk Officer for the Department of the Interior at the Office of Management and Budget, by facsimile to (202) 395-6566 or you may send an e-mail to OIRA_DOCKET@omb.eop.gov. Please send copies of comments to Kevin Skenandore, Acting Director, Bureau of Indian Education (BIE), 1849 C Street NW., MS-3609/MIB, Washington, DC 20240.

FOR FURTHER INFORMATION CONTACT: Glenn Allison, (202) 208-3628 or Chris Redman, (405) 2605-6051 x305.

SUPPLEMENTARY INFORMATION:

I. Abstract

Student Transportation Form

The student transportation regulations in 25 CFR Part 39, subpart G, contain the program eligibility and criteria that govern the allocation of transportation funds. Information collected from the schools will be used to determine the rate per mile. The information collection is needed to provide transportation mileage for Bureau-funded schools, which will receive an allocation of transportation funds.

Data Elements for Students in Bureau-funded Schools

The information is collected by school registrars to determine the student's eligibility for enrollment in a Bureau-funded school, and if eligible, is shared with appropriate school officials to identify the student's base and supplemental educational and/or residential program needs. The information is compiled into a national database by the Bureau of Indian Education to facilitate budget requests and the allocation of congressionally appropriated funds.

Application for Admission to HINU and SIPI

The BIE provides the admission forms for HINU and SIPI, which are used to determine eligibility of American Indian and Alaska Native students for educational services at these two institutions. These forms are utilized pursuant to the Blood Quantum Act, Public Law 99-228; the Snyder Act, chapter 115, Public Law 67-85; and the Indian Appropriations of the 48th Congress, chapter 180, page 91, For Support of Schools, July 4, 1884.

II. Request for Comments

A 60-day notice requesting comments was published on September 10, 2008 (Vol. 73, FR 52671). There were no comments received regarding that notice. You are invited to comment on the following items to the Desk Officer at OMB at the citation in ADDRESSES section.

(a) Whether the collection of information is necessary for the proper performance of the functions of the agency, including whether the information will have practical utility;

(b) The accuracy of the agency's estimate of the burden (including the hours and cost) of the proposed collection of information, including the validity of the methodology and assumption used;

(c) Ways to enhance the quality, utility, and clarity of the information to be collected;

(d) Ways to minimize the burden of the collection of information on those who are to respond, including through the use of appropriate automated, electronic, mechanical, or other collection techniques or other forms of information technology.

We may not conduct or sponsor, and you need not respond to, a collection of information, unless there is a valid Office of Management and Budget control number.

Comments submitted will become a matter of public record. Before including your address, phone number, e-mail address or other personally identifiable information, be advised that your entire comment—including your personally identifiable information—may be made public at any time. While you may request that we withhold your personally identifiable information, we cannot guarantee that we will be able to do so. All comments from representatives of businesses or organizations will be made public in their entirety.

The Office of Information and Regulatory Affairs, Office of Management and Budget, has up to 60 days to make a decision but may decide after 30 days. Therefore, in order for your comments to have the greatest impact, they should be sent during the 30-day comment period.

III. Data

1.

Title: Student Transportation Form, Subpart G, 25 CFR 39.

OMB Control Number: 1076-0134.

Type of review: Renewal.

Brief Description of collection: This collection provides pertinent data concerning the schools' bus transportation mileage and related long distance travel mileage to determine funding for school transportation.

Respondents: Contract and Grant Schools; Bureau-operated schools. About 121 tribal school administrators annually gather the necessary information during student count week.

Number of Respondents: 121.

Estimated Time per Response: At an average of 6 hours each 121 reporting schools = 726 hours.

Frequency of Response: Annually.

Total Annual Burden to Respondents: 726 hours.

2.

Title: Data Elements for Student Enrollment in Bureau-funded Schools.

OMB Control Number: 1076-0122.

Type of Review: Extension.

Description: This annual collection provides data about students that impacts placement, special needs assessment, and funding for individuals, and it assists schools in developing a plan for the school year.

Total Number of Respondents: 48,000

Total Number of Annual Responses: 48,000.

Total Annual Burden Hours: 15 minutes for each response = 12,000.

3.

Title: Applications for Admission to Haskell Indian Nations University and to Southwestern Indian Polytechnic Institute.

OMB Control Number: 1076-0114.

Type of Review: Extension.

Description: These eligibility application forms are voluntary for students but are mandatory in determining a student's eligibility for educational services.

Total Number of Respondents: 4,000.

Total Number of Annual Responses: 4,000.

Total Annual Burden Hours: 30 minutes per application × (number of HINU applications) and 30 minutes per application × (number of SIPI applications) = 2000 total burden hours.

Filing fee: $10 per application for HINU; fee for SIPI included in school cost but we have estimated a $10 fee per completed application. We estimate the total filing fee to be $16,500.00. SIPI has a number of applications which are never completed; therefore, their filing fee is not $3,000, as it would be otherwise. Dormitory fees may also apply.

Dated: December 17, 2008
Sanjeev Bhagowalia,
Chief Information Officer—Indian Affairs.

[FR Doc. E8-30615 Filed 12-23-08; 8:45 am]

BILLING CODE 4310-6W-P